FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
9806N | International Link Service Inc. 160-23 Rockaway Boulevard 1st Floor, Jamaica, NY 11434 | August 14, 2002.
2662NF | La Flor De Mayo Express, Inc., 311 Bruckner Boulevard, Suite B, Bronx, NY 10454 | July 24, 2002.
829F | Leyden Shipping Corporation, 30 Vesey Street, Suite 1000, New York, NY 10007 | September 14, 2002.
15471NF | Navicargo, Inc., 8860 NW 102 St., Medley, FL 33178 | July 23, 2002.
2328NF | Ross Freight Company, Inc., 26302 South Western Avenue #7, Lomita, CA 90717 | June 6, 2002.
4350NF | Seaborne International, Inc., dba Seaborne Express Line, 11222 La Cienega Blvd., Ste. 470, Inglewood, CA 90304 | September 14, 2002.
3610NF | Sorenna 3051 E. Maria Street, Rancho Dominguez, CA 90221 | May 25, 2002.
12629N | T & T Shipping Services, Inc., 2546 Pitkin Avenue, Brooklyn, NY 11208 | August 14, 2002.

Sandra L. Kusumoto,
Director, Bureau of Consumer Complaints and Licensing.

[FR Doc. 02-28234 Filed 11-5-02; 8:45 am]

BILLING CODE 6730-01-P